DEPARTMENT OF COMMERCE

National Oceanic and Atmospheric Administration

Sanctuary System Business Advisory Council: Public Meeting

AGENCY: Office of National Marine Sanctuaries (ONMS), National Ocean Service, National Oceanic and Atmospheric Administration, Department of Commerce.

ACTION: Notice of open public meeting.

SUMMARY: Notice is hereby given of a meeting of the Sanctuary System Business Advisory Council (council). The meeting is open to the public, and an opportunity for oral and written comments will be provided.

DATES: The meeting will be held on Wednesday, January 15, 2025 from 12 p.m. to 1 p.m. eastern standard time (EST), and an opportunity for public comment will be provided around 12:50 p.m. EST. Both times and agenda topics are subject to change.

ADDRESSES: The meeting will be held virtually using Google Meet. To participate, please use the weblink provided below. If you are unable to participate online, you can also connect to the public meeting using the phone number provided.

• Weblink: meet.google.com/uqs-gsxe-mtw

• Phone: (US) +1 219-321-0702 PIN: 875 524 484#

To provide an oral public comment during the virtual meeting, please sign up prior to or during the meeting by contacting Sage Riddick by phone (240-560-3365) or email (sage.riddick@noaa.gov). To provide written public comment, please send the comment to Sage Riddick prior to or during the meeting via email (sage.riddick@noaa.gov). Please note, the meeting will not be recorded. However, public comments, including any associated names, will be captured in the minutes of the meeting, will be maintained by ONMS as part of its administrative record, and may be subject to release pursuant to the Freedom of Information Act. The entirety of the comment, including the name of the commenter, email address, attachments, and other supporting materials, will be publicly accessible. Sensitive personally identifiable information, such as account numbers and Social Security numbers, should not be included with the comment. Comments that are not responsive or contain profanity, vulgarity, threats, or other inappropriate language will not be considered. By signing up to provide a public comment, you agree that these communications, including your name and comment, will be maintained as described here.

FOR FURTHER INFORMATION CONTACT: Sage Riddick, Office of National Marine Sanctuaries, 1305 East West Highway, Silver Spring, Maryland 20910 (Phone: 240-560-3365; Email: sage.riddick@noaa.gov).

SUPPLEMENTARY INFORMATION: ONMS serves as the trustee for a network of underwater parks encompassing more than 629,000 square miles of marine and Great Lakes waters from Washington State to the Florida Keys, and from Lake Huron to American Samoa. The network includes a system of 17 national marine sanctuaries and Papahānaumokuākea and Rose Atoll marine national monuments. National marine sanctuaries protect our Nation's most vital coastal and marine natural and cultural resources, and through active research, management, and public engagement, sustain healthy environments that are the foundation for thriving communities and stable economies.

One of the many ways ONMS ensures public participation in the designation and management of national marine sanctuaries is through the formation of advisory councils. The council provides advice and recommendations to the ONMS Director regarding the relationship of ONMS with the business community. Additional information on the council can be found at https://sanctuaries.noaa.gov/management/bac/.

Matters to be discussed: The meeting will include updates from ONMS leadership, member updates, and a celebration of the council. For a complete agenda, including times and topics, please visit http://sanctuaries.noaa.gov/management/bac/meetings.html.

Authority: 16 U.S.C. 1431 et seq.

John Armor,
Director, Office of National Marine Sanctuaries, National Ocean Service, National Oceanic and Atmospheric Administration.

[FR Doc. 2024-30690 Filed 12-30-24; 8:45 am]

BILLING CODE 3510-NK-P